FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

Anchor Logistix (Canada) Ltd. dba Anchor Logistix 9USA) Ltd., 1030 Kamato Rd., #206, Mississauga, ON L4W 4B6, Canada. Officer: Mylai Balakrishnan Karthik, Director, (Qualifying Individual).

A Way To Move, Inc., 304 Tejon Place, Palos Verdes, CA 90274. Officer: Alex Knowles, President, (Qualifying Individual).

Korchina Logistics USA, Inc., 550 E. Carson Plaza Drive, Ste. 206, Carson, CA 90746. Officers: Jong K. Park, CFO, (Qualifying Individual), Eric EK Sun, President.

Map Cargo Global Logistics, 2551 Santa Fe Ave., Redondo Beach, CA 90278. Officer: Marek A. Panaseqiz, President, (Qualifying Individual).

Atlantic Consolidators, Inc., 10880 NW 27th Street, Ste. 200, Miami, FL 33172. Officer: Ali A. Germi, President, (Qualifying Individual).

Non-Vessel Operating Common Carrier and Ocean Freight Forwarder Transportation Intermediary Applicant

IAL Container Line (USA) Inc., 55 Madison Avenue, Ste. 400—Rm. 9, Morristown, NJ 07960. Officers: Jitendra P. Shah, Vice President, (Qualifying Individual), Ashwin Pandya, President.

Selim Logistics System USA, Inc., 777 Mark Street, #107, Wood Dale, IL 60191. Officer: Young E. Lee, Treasurer, (Qualifying Individual).

Trans Atlantic Freight Forwarders, Inc., 829 S. Dixie Highway, Lake Worth, FL 33460. Officers: Osmo Sikanen, President, (Qualifying Individual), Eila Sikanen, Vice President.

Jo-Sak USA Inc., 3300 Arapahoe Avenue, Boulder, CO 80303. Officer: Pauline Vaghiayan, President, (Qualifying Individual).

A & S Shipping Company, Inc., 7231 NW 54 Street, Miami, FL 33166. Officers: Ana Hernandez, Treasurer, (Qualifying Individual), Sherlly A. Brache, President.

Ocean Freight Forwarder—Ocean Transportation Intermediary Applicant

APM Global Logistics USA Inc., Giralda Farms, Madison Ave., P.O. Box 880, Madison, NJ 07940-0880. Officer: Nick Fafoutis, Sen. Dir. Area Sales Manager, (Qualifying Individual).

Dated: June 6, 2008.
Karen V. Gregory,
Assistant Secretary.

[FR Doc. E8-13079 Filed 6-10-08; 8:45 am]

BILLING CODE 6730-01-P